FEDERAL COMMUNICATIONS COMMISSION

[CC Docket No. 94-102; DA 02-2560]

Small Business Size Standards

AGENCY: Federal Communications Commission.

ACTION: Notice; comments invited.

SUMMARY: The Commission seeks comment on a proposed special small business size standard for Tier III wireless carriers in the Enhanced 911 (E911) proceeding. This action is taken pursuant to a requirement in the Small Business Act.

DATES: Comments are due on or before November 6, 2002, and reply comments are due on or before November 21, 2002.

ADDRESSES: Parties who choose to file by paper must file an original and four copies of each filing. All filings must be addressed to the Commission's Secretary, Marlene H. Dortch, Office of the Secretary, Federal Communications Commission, 445 12th Street, SW., Washington, DC 20554. A copy should also be sent to Jennifer Tomchin, Room 3C-400, Federal Communications Commission, 445 12th Street, SW., Washington, DC 20554.

FOR FURTHER INFORMATION CONTACT: Jennifer Tomchin, Attorney, 202-418-1310.

SUPPLEMENTARY INFORMATION: 1. On July 26, 2002, the Commission adopted an Order (E911 Small Carriers Order) staying certain wireless enhanced 911 (E911) Phase II deployment deadlines for Tier II and Tier III carriers, with conditions. (See Order to Stay in CC Docket No. 94-102, FCC 02-210, released July 26, 2002.) Pursuant to this Order, Tier II carriers were defined as non-nationwide carriers that had over 500,000 subscribers as of year-end 2001, and Tier III carriers were defined as all other non-nationwide carriers. In the E911 Small Carriers Order, the Commission noted that it would solicit public comment on the proposed size standard for Tier III carriers, in accordance with Section 121.902(b) of the SBA's small business size regulations. The Commission now seeks comment on this matter for purposes of obtaining SBA approval of the Tier III size standard. This action will not affect the deadlines or conditions set forth in the E911 Small Carriers Order, including applicable reporting requirements.

2. In the E911 Small Carriers Order, the Commission defined Tier II, or mid-size carriers, as those non-nationwide carriers with over 500,000 subscribers as of year-end 2001. The Commission defined Tier III carriers as all other non-nationwide carriers. The Commission found this to be the appropriate level to distinguish between Tier II and Tier III carriers, noting that each of the Tier II carriers reported over $85 million in annual revenues for 2001, and thus should have sufficient resources to pursue an E911 Phase II solution more quickly than the smaller carriers. The Commission reasoned that relatively larger carriers should have a greater ability to obtain location technologies in a shorter period of time as compared with the smallest carriers. Additionally, a standard based on number of subscribers rather than the number of employees may more accurately reflect the size of the carrier's wireless network and as a result, the scope of work required to implement Phase II service.

3. Interested parties may file comments on or before November 6, 2002, and reply comments on or before November 21, 2002. Comments may be filed using the Commission's Electronic Comment Filing System (ECFS) or by filing paper copies.

4. Comments filed through the ECFS can be sent as an electronic file via the Internet to http://www.fcc.gov/e-file/ecfs.html. Generally, only one copy of an electronic submission must be filed. If multiple docket or rulemaking numbers appear in the caption of this proceeding, however, commenters must transmit one electronic copy of the filing to each docket or rulemaking number referenced in the caption. In completing the transmittal screen, commenters should include their full name, Postal Service mailing address, and the applicable docket or rulemaking number. Parties may also submit an electronic copy by Internet e-mail. To get filing instructions for e-mail comments, commenters should send an e-mail to ecfs@fcc.gov, and should include the following words in the body of the message: “get form <your email address>.” A sample form and directions will be sent in reply. Commenters also may obtain a copy of the ASCII Electronic Transmittal Form (FORM-ET) at http://www.fcc.gov/e-file/email.html.

5. Parties who choose to file by paper must file an original and four copies of each filing. If more than one docket or rulemaking number appears in the caption of this proceeding, commenters must submit two additional copies for each additional docket or rulemaking number. Filings can be sent by hand or messenger delivery, by commercial overnight courier, or by first-class or overnight U.S. Postal Service mail (although we continue to experience delays in receiving U.S. Postal Service mail). The Commission's contractor, Vistronix, Inc., will receive hand-delivered or messenger-delivered paper filings for the Commission's Secretary at 236 Massachusetts Avenue, NE., Suite 110, Washington, DC 20002. The filing hours at this location are 8:00 a.m. to 7:00 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Office of the Secretary, Federal Communications Commission. A copy should also be sent to Jennifer Tomchin, 445 12th Street, SW., Room 3-C400, Washington, DC 20554.

6. Regardless of whether parties choose to file electronically or by paper, parties should also file one copy of any documents filed in this docket with the Commission's copy contractor, Qualex International, Portals II, 445 12th Street SW., CY-B402, Washington, DC 20554 (telephone 202-863-2893; facsimile 202-863-2898) or via e-mail at qualexint@aol.com. In addition, one copy of each submission must be filed with the Chief, Policy Division, Wireless Telecommunications Bureau, 445 12th Street, SW., Washington, DC 20554. Documents filed in this proceeding will be available for public inspection during regular business hours in the Commission's Reference Information Center, 445 12th Street, SW., Washington, DC 20554, and will be placed on the Commission's Internet site.

Federal Communications Commission.
James D. Schlichting,
Deputy Chief, Wireless Telecommunications Bureau.

[FR Doc. 02-27064 Filed 10-22-02; 8:45 am]

BILLING CODE 6712-01-P